DEPARTMENT OF COMMERCE

International Trade Administration

[C-475-819]

Corrections to Notice of Initiation of Countervailing Duty New Shipper Review: Certain Pasta From Italy

AGENCY: Import Administration, International Trade Administration, Department of Commerce

EFFECTIVE DATE: March 24, 2003.

FOR FURTHER INFORMATION CONTACT: Stephen Cho or Craig Matney, Import Administration, International Trade Administration, U.S. Department of Commerce, 14th Street and Constitution Avenue, NW., Washington, DC 20230; telephone (202) 482-3798 or (202) 482-1778, respectively.

SUPPLEMENTARY INFORMATION:

Corrections to Initiation and Preliminary Results Dates of Review

On March 5, 2003, the Department of Commerce published its Notice of Initiation of Countervailing Duty New Shipper Review: Certain Pasta from Italy, 68 FR 10446. In that notice, the intiation of the review was dated February 21, 2003. Further, we indicated that pursuant to 19 CFR 351.214(h)(i), we intend to issue the preliminary results of the review not later than 180 days from the date of publication of the notice.

We issue this notice to correct and amend the initiation and preliminary result dates of the review because of a typographical error. The intiation of the review should be dated February 27, 2003, and pursuant to 19 CFR 351.214(h)(i), we intend to issue the preliminary results of the review not later than 180 days from this corrected date of initiation.

This notice is published pursuant to section 751(a) of the Act and 19 CFR 351.214.

Dated: March 18, 2003.
Joseph A. Spetrini,
Acting Assistant Secretary for Import Administration.

[FR Doc. 03-6940 Filed 3-21-03; 8:45 am]

BILLING CODE 3510-DS-P